DEPARTMENT OF ENERGY

Federal Energy Regulatory Commission

[Docket No. EL00-108-000]

Tenaska Power Services Co., Complainant v. Southwest Power Pool, Inc., Respondent; Notice of Complaint

Correction

In notice document 00-23868 beginning on page 56300, in the issue of Monday, September 18, 2000, make the following correction:

On page 56300, in the third column, the docket number is corrected to read as set forth above.

[FR Doc. C0-23868 Filed 9-27-00; 8:45 am]

BILLING CODE 1505-01-D

DEPARTMENT OF THE TREASURY

Internal Revenue Service

Proposed Collection; Comment Request for Form 706-GS(T)

Correction

In notice document 00-23530 appearing on page 55327 in the issue of Wednesday, September 13, 2000 make the following correction:

On page 55327, in the third column, under DATES, in the second line, “October 13,” should read “November 13,”.

[FR Doc. C0-23530 Filed 9-27-00; 8:45 am]

BILLING CODE 1505-01-D